DEPARTMENT OF HOUSING AND URBAN DEVELOPMENT

[Docket No. FR-4565-N-14]

Notice of Proposed Information Collection: Comment Request; Request for Construction Change

AGENCY: Office of the Assistant Secretary for Housing, HUD.

ACTION: Notice.

SUMMARY: The Proposed information collection requirement described below will be submitted to the Office of Management and Budget (OMB) for review, as required by the Paperwork Reduction Act. The Department is soliciting public comments on the subject proposal.

DATES: Comments Due Date: July 31, 2000.

ADDRESSES: Interested persons are invited to submit comments regarding this proposal. Comments should refer to the proposal by name and/or OMB Control Number and should be sent to: Wayne Eddins, Reports Management Officer, Department of Housing and Urban Development, 451 7th Street, SW., L'Enfant Building, Room 8202, Washington, DC 20410, telephone (202) 708-5221 (this is not a toll-free number) for copies of the proposed forms and other available information.

FOR FURTHER INFORMATION CONTACT: Willie Spearmon, Director, Office of Business Products, U.S. Department of Housing and Urban Development, 451 7th Street, SW., Washington, DC 20410, telephone number (202) 708-3000 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Request for Construction Change.

OMB Control Number, if applicable: 2502-0011.

Description of the need for the information and proposed use: Sections 207(b) of the National Housing Act (Public Law 479, 48 Stat. 1246, 12 U.S.C. 1701 et. seq.) authorizes the Secretary for the Department of Housing and Urban Development to insure mortgages for construction of rental housing projects. Forms HUD-92437, HUD-92442, HUD-92442-A, HUD-92442-CA and HUD-92442-A-CA, are used by the contractor, mortgagor and mortgagee to obtain the FHA Commissioner's approval of changes drawings and specifications.

Agency form numbers, if applicable: HUD-92437, HUD-92442, HUD-92442-A, HUD-92442-CA, HUD-92442-A-CA.

Estimation of the total number of hours needed to prepare the information collection including number of respondents, frequency of response, and hours of response: HUD-92437 (number of respondents is 900, frequency of responses is 3, hours per response is 2 hours); HUD-92442 (number of respondents is 300, frequency of responses is 1, hours per response is 16 hours); HUD-92442-A (number of respondents is 300, frequency of responses is 1, hours per response is 16 hours); HUD-92442-CA (number of respondents is 300, frequency of responses is 1, hours per responses is 16 hours); HUD-92442-A-CA (number of respondents is 100, frequency of responses is 1, hours per response is 2 hours). The total number of respondents are 1,900 and the annual burden hours requested are 20,000.

Status of the proposed information collection: Reinstatement with change.

Authority: The Paperwork Reduction Act of 1995, 44 U.S.C., Chapter 35, as amended.

Dated: May 22, 2000.
William C. Apgar,
Assistant Secretary for Housing-Federal Housing Commissioner.

[FR Doc. 00-13468 Filed 5-30-00; 8:45 am]

BILLING CODE 4210-27-M